DEPARTMENT OF DEFENSE

Department of the Army; Corps of Engineers

Intent To Prepare a Draft Environmental Impact Statement (EIS) for the Mississippi River Diversion Near Benny's Bay, Ecosystem Restoration Analysis, Mississippi River Delta, LA

AGENCY: Army Corps of Engineers, DoD.

ACTION: Notice of intent.

SUMMARY: Estimates show that approximately 30 square miles of coastal wetlands convert to open water in Louisiana each year. The causes of the wetland loss are varied and complex, depending upon wetland location and type. Wetland loss has been attributed to the loss of freshwater, nutrient, and sediment input from the Mississippi River due the construction of flood protection levees, salt water intrusion, oil and gas access canals, navigation channels, subsidence, and sea level rise. The loss of wetlands has serious negative impacts to fish and wildlife populations, hurricane protection, and the economy of Louisiana and the nation. Many believe that reestablishment of freshwater, nutrient, and sediment flows from the Mississippi River into degraded wetlands would restore and sustain coastal wetland ecosystem structure and function that have been lost.

FOR FURTHER INFORMATION CONTACT: Questions concerning the EIS should be addressed to Mr. Michael Salyer at (504) 862-2037. Mr. Salyer may also be reached at fax number (504) 862-2572 or by e-mail at michael.r.salyer@ mvn02.usace.army.mil. Mr. Salyer's address is U.S. Army Corps of Engineers, PM-RS, P.O. Box 60267, New Orleans, Louisiana 70160-0267.

SUPPLEMENTARY INFORMATION: 1. Authority. The U.S. Army Corps of Engineers, New Orleans District, at the direction of the Louisiana Coastal Wetlands Conservation and Restoration Task Force, is initiating this study under the authority of the Coastal Wetlands Planning, Protection and Restoration Act, Pub. L. 101-646. This act includes funds for the planning of measures for the creation, restoration, protection and enhancement of coastal wetlands.

2. Proposed Action. The proposed action would restore, enhance, and sustain the coastal wetlands ecosystem east of the Mississippi River in Mississippi River Delta, Louisiana. This ecosystem is located in Region 2, Mississippi River Delta, Plaquemines Parish. The diversion inlet would be located on the east bank of the Mississippi River at Mile 7.5 above Head of Passes. This action would likely utilize the nutrients, freshwater, and sediment of the Mississippi River for this restoration. This proposed action is intended to reestablish ecosystem functions. This proposed action would restore the wetland acreage and biodiversity of the Mississippi River Delta. Environmental analysis would be used to determine the most practical plan, which would provide for the greatest overall public benefit. The recommended plan would restore degraded wetlands with the least adverse impacts to stakeholder interests.

3. Alternatives. Alternatives recommended for consideration presently include the construction of a river diversion structure in the vicinity of Benny's Bay, dedicated dredging to construct wetlands, the construction of outfall management structures, and combinations of the above. Various capacities for the diversion structure would be investigated. Various increments of dedicated dredging and increments of long-term diversion amounts would also be investigated.

4. Scoping. Scoping is the process for determining the scope of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in the early part of 2002. The meeting will be held in Plaquemines parish, Louisiana. Additional meetings could be held, depending upon interest and if it is determined that further public coordination is warranted.

5. Significant Issues. The tentative list of resources and issues to be evaluated in the EIS includes tidal wetlands (marshes and swamps), aquatic resources, commercial and recreational fisheries, wildlife resources, essential fish habitat, water quality, air quality, threatened and endangered species, recreation resources, and cultural resources. Socioeconomic items to be evaluated in the EIS include navigation, flood protection, business and industrial activity, employment, land use, property values, public/community facilities and services, tax revenues, population, community and regional growth, transportation, housing, community cohesion, and noise.

6. Environmental Consultation and Review. The U.S. Fish and Wildlife Service (USFWS) will be assisting in the documentation of existing conditions and assessment of effects of project alternatives through Fish and Wildlife Coordination Act consultation procedures. The USFWS will also provide a Fish and Wildlife Coordination Act report. Consultation will also be accomplished with the USFWS and the National Marine Fisheries Service (NMFS) concerning threatened and endangered species and their critical habitat. The NMFS will be consulted on the effects of this proposed action on Essential Fish Habitat. The draft EIS or a notice of its availability will be distributed to all interested agencies, organizations, and individuals.

7. Estimated Date of Availability. Funding levels will dictate the date when the draft EIS is available. The earliest that the draft EIS is expected to be available is summer of 2002.

Dated: December 11, 2001.
Michael R. Burt,
Lieutenant Colonel, U.S. Army, Acting District Engineer.

[FR Doc. 01-31358 Filed 12-19-01; 8:45 am]

BILLING CODE 3710-84-P